DEPARTMENT OF TRANSPORTATION

Federal Railroad Administration

[Docket Number FRA-2009-0040]

Notice of Public Hearing; Western New York & Pennsylvania Railroad

The Western New York & Pennsylvania Railroad (WNYP) has petitioned the Federal Railroad Administration (FRA) seeking approval of the proposed discontinuance and removal of the traffic control signal system between milepost (MP) BR134.0 at North Driftwood, PA, and MP BR44.5 at Machias, NY, on the WNYP Buffalo Line.

This proceeding is identified as FRA block signal application Docket Number FRA-2009-0040. A copy of WNYP's full petition is available for review online at http://www.regulations.gov under the docket number identified above.

FRA has conducted a field investigation in this matter and has issued a public notice seeking comments from interested parties. See 74 FR 23466 (May 19, 2009). After examining the carrier's proposal and the available facts, FRA has determined that a public hearing is necessary before a final decision is made on this proposal. Accordingly, FRA invites all interested persons to participate in a public hearing on February 3, 2010. The hearing will be conducted at the Allegany Community Center and Firemen's Park, 188 West Main Street, Allegany, New York 14706. The hearing will begin at 9 a.m. Interested parties are invited to present oral statements at the hearing. For information on facilities or services for persons with disabilities or to request special assistance at the hearing, contact FRA's Docket Clerk, Michelle Silva, by telephone, e-mail, or in writing, at least 5 business days before the date of the hearing. Ms. Silva's contact information is as follows: FRA, Office of Chief Counsel, Mail Stop 10, 1200 New Jersey Avenue, SE., Washington, DC 20590; telephone: 202-493-6030; e-mail: michelle.silva@dot.gov.

The hearing will be informal and conducted in accordance with Rule 25 of the FRA Rules of Practice (49 CFR 211.25) by a representative designated by FRA. The hearing will be a non-adversary proceeding; therefore, there will be no cross-examination of persons presenting statements. An FRA representative will make an opening statement outlining the scope of the hearing. After all initial statements have been completed, those persons wishing to make brief rebuttal statements will be given the opportunity to do so in the same order in which they made their initial statements. Additional procedures, if necessary for the conduct of the hearing, will be announced at the hearing.

Issued in Washington, DC on December 28, 2009.
Grady C. Cothen, Jr.,
Deputy Associate Administrator for Safety Standards and Program Development.

[FR Doc. E9-31111 Filed 12-31-09; 8:45 am]

BILLING CODE 4910-06-P